DEPARTMENT OF ENERGY

Orders Granting Authority To Import and Export Natural Gas, To Import and Export Liquefied Natural Gas, To Vacate Authority, and Denying Request for Rehearing During September 2015

| FE Docket Nos.
KOCH ENERGY SERVICES, LLC | 15-115-NG
TALISMAN ENERGY USA INC | 15-117-NG
EDF TRADING NORTH AMERICA, LLC | 15-118-NG
AVISTA CORPORATION | 15-116-NG
EDF TRADING NORTH AMERICA, LLC | 15-119-LNG
EDF TRADING NORTH AMERICA, LLC | 15-120-LNG
BARCLAYS BANK PLC | 15-127-NG
JD IRVING, LIMITED | 15-122-NG
FERUS NATURAL GAS FUELS LP | 15-114-NG
RELIANT ENERGY NORTHEAST LLC | 15-123-NG
OCCIDENTAL ENERGY MARKETING, INC | 15-128-LNG
PUBLIC UTILITY DISTRICT NO. 1 OF CLARK COUNTY | 15-129-NG
CONOCOPHILLIPS CANADA MARKETING & TRADING ULC | 15-126-NG
TRANSALTA ENERGY MARKETING (U.S.) INC | 15-132-NG
TRANSCANADA PIPELINES LIMITED | 15-124-NG
JPMORGAN LNG CO | 14-20-LNG
GAZ METRO SOLUTIONS TRANSPORT | 15-131-LNG
TEXAS LNG BROWNSVILLE LLC | 15-62-LNG
CAMERON LNG, LLC | 11-162-LNG
TEXAS LNG LLC | 13-160-LNG
FREEPORT LNG DEVELOPMENT, L.P | 15-103-LNG

AGENCY: Office of Fossil Energy, Department of Energy (DOE).

ACTION: Notice of orders.

SUMMARY: The Office of Fossil Energy (FE) of the Department of Energy gives notice that during September 2015, it issued orders granting authority to import and export natural gas, to import and export liquefied natural gas (LNG), to vacate authority, and denying request for rehearing. These orders are summarized in the attached appendix and may be found on the FE Web site at http://energy.gov/fe/downloads/listing-doefe-authorizationsorders-issued-2015. They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC, on October 19, 2015.
John A. Anderson,
Director, Office of Regulation and International Engagement, Office of Oil and Natural Gas.

Appendix—DOE/FE Orders Granting Import/Export Authorizations
3700 | 15-115-NG | 09/11/15 | Koch Energy Services, LLC | Order granting blanket authority to import/export natural gas from/to Canada.
3701 | 15-117-NG | 09/15/15 | Talisman Energy USA Inc | Order granting blanket authority to import/export natural gas from/to Canada.
3702 | 15-118-NG | 09/15/15 | EDF Trading North America, LLC | Order granting blanket authority to import/export natural gas from/to Canada/Mexico.
3703 | 15-116-NG | 09/15/15 | Avista Corporation | Order granting blanket authority to import/export natural gas from/to Canada.
3704 | 15-119-LNG | 09/15/15 | EDF Trading North America, LLC | Order granting blanket authority to import/export LNG from/to Canada/Mexico by truck.
3705 | 15-120-LNG | 09/15/15 | EDF Trading North America, LLC | Order granting blanket authority to import LNG from various international sources by vessel and to export LNG to Canada/Mexico by vessel.
3706 | 15-127-NG | 09/17/15 | Barclays Bank PLC | Order granting blanket authority to import natural gas from Canada.
3707 | 15-122-NG | 09/18/15 | JD Irving, Limited | Order granting blanket authority to import natural gas from Canada.
3708 | 15-114-NG | 09/15/15 | Ferus Natural Gas Fuels LP | Order granting blanket authority to import/export natural gas from/to Canada.
3709 | 15-123-NG | 09/15/15 | Reliant Energy Northeast LLC | Order granting blanket authority to import/export natural gas from/to Canada.
3710 | 15-128-LNG | 09/15/15 | Occidental Energy Marketing, Inc | Order granting blanket authority to import LNG from various international sources by vessel.
3711 | 15-129-NG | 09/17/15 | Public Utility District No. 1 of Clark County | Order granting blanket authority to import/export natural gas from/to Canada.
3712 | 15-126-NG | 09/17/15 | ConocoPhillips Canada Marketing & Trading ULC | Order granting blanket authority to import/export natural gas from/to Canada.
3713 | 15-132-NG | 09/17/15 | TransAlta Energy Marketing (U.S.) Inc | Order granting blanket authority to import/export natural gas from/to Canada.
3714 | 15-124-NG | 09/17/15 | TransCanada Pipelines Limited | Order granting blanket authority to import/export natural gas from/to Canada.
3405-A | 14-20-LNG | 09/17/15 | JPMorgan LNG Co | Order vacating blanket authority to import/export natural gas from/to Canada.
3715 | 15-131-LNG | 09/25/15 | Gaz Metro Solutions Transport | Order granting blanket authority to import LNG from Canada by truck.
3716 | 15-62-LNG | 09/24/15 | Texas LNG Brownsville LLC | Order granting long-term Multi-contract authority to export LNG by vessel from the proposed LNG Terminal at the Port of Brownsville, Texas to Free Trade Agreement Nations.
3391-B | 11-162-LNG | 09/24/15 | Cameron LNG, LLC | Opinion and Order denying request for rehearing of Orders granting long-term Multi-contract authority to export LNG by vessel from the Cameron LNG Terminal in Cameron and Calcasieu Parishes, Louisiana to Non-free Trade Agreement Nations.
3443-A | 13-160-LNG | 09/24/17 | Texas LNG LLC | Order vacating long-term authority Multi-contract authority to export LNG to Free Trade Agreement Nations, and Notice of Withdrawal of Application requesting long-term Multi-contract authority to export LNG to Non-free Trade Agreement Nations.
3717 | 15-103-LNG | 09/25/15 | Freeport LNG Development, L.P | Order granting blanket authority to export previously imported LNG by vessel.

[FR Doc. 2015-27193 Filed 10-23-15; 8:45 am]

BILLING CODE 6450-01-P